COMMITTEE FOR PURCHASE FROM PEOPLE WHO ARE BLIND OR SEVERELY DISABLED

Procurement List; Proposed Additions to and Deletions

AGENCY: Committee for Purchase From People Who Are Blind or Severely Disabled.

ACTION: Proposed Additions to and Deletions from the Procurement List.

SUMMARY: The Committee is proposing to add products and services to the Procurement List that will be furnished by nonprofit agencies employing persons who are blind or have other severe disabilities, and deletes services previously furnished by such agencies.

Comments Must Be Received On Or Before: 7/29/2013.

ADDRESSES: Committee for Purchase From People Who Are Blind or Severely Disabled, 1401 S. Clark Street, Suite 10800, Arlington, Virginia, 22202-4149.

For Further Information Or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN: 7510-00-NIB-9832—Portable Desktop Clipboard, 10″ W × 2-3/5″ D × 16″ H, Black.

NSN: 7510-00-NIB-9833—Portable Desktop Clipboard, 10″ W × 2-3/5″ D × 16″ H, Blue.

NSN: 7510-00-NIB-9851—Portable Desktop Clipboard with Calculator, 10″ W × 2-3/5″ D × 16″ H, Black.

NSN: 7510-00-NIB-9852—Portable Desktop Clipboard with Calculator, 10″ W × 2-3/5″ D × 16″ H, Blue.

Coverage: A-List for the Total Government Requirement as aggregated by the General Services Administration.

NSN: 7510-00-NIB-9834—Portable Desktop Clipboard, 10″ W × 2-3/5″ D × 16″ H, Army Green.

NSN: 7510-00-NIB-9853—Portable Desktop Clipboard with Calculator, 10″ W × 2-3/5″ D × 16″ H, Army Green.

Coverage: B-List for the Broad Government Requirement as aggregated by the General Services Administration.

NPA: L.C. Industries for the Blind, Inc., Durham, NC.

Contracting Activity: GENERAL SERVICES ADMINISTRATION, NEW YORK, NY.

Services:

Service Type/Location: Courier Service, Michael E. DeBakey VA Medical Center, 2002 Holcombe Boulevard, Houston, TX.

NPA: Southeast Vocational Alliance, Inc., Houston, TX.

Contracting Activity: DEPARTMENT OF VETERANS AFFAIRS, 580-HOUSTON, HOUSTON, TX.

Service Type/Location: Custodial Service, National Counterdrug Training Center Campus, Building 8-47, Annville, PA.

NPA: Opportunity Center, Incorporated, Wilmington, DE.

Contracting Activity: DEPT OF THE ARMY, W7NX USPFO ACTIVITY PA ARNG, ANNVILLE, PA.

Service Type/Location: Integrated Prime Vendor Supply Chain Management Service, U.S. Army, Product Manager Force Sustainment Systems, Natick, MA.

NPA: ReadyOne Industries, Inc., El Paso, TX.

Contracting Activity: APG-NATICK CONTRACTING DIVISION, MILFORD, MA.

Service Type/Location: Integrated Prime Vendor Supply Chain Management Service, U.S. Navy, Naval Surface Warfare Center, Crane, IN.

NPA: Knox Country Association for Retarded Citizens, Inc., Vincennes, IN.

Contracting Activity: U.S. NAVAL SYSTEMS COMMAND, NSWC, CRANE, IN.

Service Type/Location: Custodial Service, GSA, PBS, Tornillo-Guadalupe Land Port of Entry, Tornillo, TX.

NPA: Training, Rehabilitation, and Development Institute, Inc., San Antonio, TX.

Contracting Activity: GENERAL SERVICES ADMINISTRATION, GREATER SOUTHWEST REGION, FORT WORTH, TX.

Service Type/Location: Janitorial and Landscape Service, Terminal Island Immigration and Customs Enforcement Facility, 2001 S. Seaside Ave., San Pedro, CA.

NPA: Los Angeles Habilitation House, Long Beach, CA.

Contracting Activity: DEPT OF HOMELAND SECURITY, U.S. IMMIGRATION AND CUSTOMS ENFORCEMENT, MISSION SUPPORT DALLAS, DALLAS, TX.

Deletions

The following services are proposed for deletion from the Procurement List:

Services:

Service Type/Location: Janitorial/Custodial Service, U.S. Army Reserve Center, 3315 9th Street, Wichita Falls, TX.

NPA: North Texas State Hospital, Wichita Falls, TX.

Contracting Activity: DEPT OF THE ARMY, W6QM MICC-FT HUNTER (RC-W), MONTEREY, CA.

Service Type/Location: Grounds Maintenance Service, U.S. Army Reserve Center, 3315 9th Street, Wichita Falls, TX.

NPA: Work Services Corporation, Wichita Falls, TX.

Contracting Activity: DEPT OF THE ARMY, W6QM MICC-FT HUNTER (RC-W), MONTEREY, CA.

Service Type/Location: Janitorial/Custodial Service, U.S. Federal Building, Courthouse and Post Office, Third and Sharkey Street, Clarksdale, MS.

NPA: UNKNOWN.

Contracting Activity: GENERAL SERVICES ADMINISTRATION, FPDS AGENCY COORDINATOR, WASHINGTON, DC.

Barry S. Lineback,
Director, Business Operations.

[FR Doc. 2013-15514 Filed 6-27-13; 8:45 am]

BILLING CODE 6353-01-P